DEPARTMENT OF TRANSPORTATION

Pipeline and Hazardous Materials Safety Administration

Hazardous Materials: Notice of Applications for Special Permits

AGENCY: Pipeline and Hazardous Materials Safety Administration (PHMSA), DOT.

ACTION: List of applications delayed more than 180 days.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 27, 2016.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on November 2, 2016.
Donald Burger,
Chief, Office of the Special Permits and Approvals.

Special Permits Data
Application No. | Docket No. | Applicant | Regulation(s) affected | Nature of the special permits thereof
8451-R |  | Capco, Inc | 172.320, 173.54(a), 173.54(j), 173.56(b), 173.57, 173.58, 173.60 | To authorize the transportation in commerce of not more than 25 grams of solid explosive or pyrotechnic material, including waste containing explosives that has energy density not significantly greater than that of pentaerythritol tetranitrate, classed as Division 1.4E, when packed in a special shipping container.
11180-M |  | Affival Inc | 173.24(c) | To modify the special permit to authorize metal tubes with a decreased diameter and an increased length to be authorized under the special permit.
12412-P |  | Delmarva Custom Applicators LLC | 177.834(h), 172.203(a), 172.302(c) | To authorize the discharge of liquid hazardous materials from certain UN intermediate Bulk Containers (IBCs) and DOT Specification 57 portable tanks without removing them from the vehicle on which they are transported.
12412-R |  | Enova Solutions, Inc | 177.834(h), 172,203(a), 172.302(c) | To consolidate the exemptions that currently authorize the discharge of hazardous materials in UN intermediate Bulk Containers (IBC) without removing the IBC from the motor vehicle on which it is transported.
12412-R |  | Green Touch Systems, LLC | 177.834(h), 172.203(a), 172.302(c) | To consolidate the exemptions that currently authorize the discharge of hazardous materials on UN Intermediate Bulk Containers (IBC) without removing the IBC from the motor vehicle on which it is transported.
13583-M |  | Structural Composites Industries LLC | 180.205, 173.302a(a)(1), 173.304a(a)(1), 175.3 | To authorize an increase in the maximum water volume of the non-specification cylinders manufactured under the special permit.
14566-R |  | Nantong CIMC Tank Equipment Co., LTD | 178.274(b), 178.276(b)(1), 18.276(a)(2) | To authorize the manufacture, marking, sale and use of certain UN T50 steel portable tanks manufactured in accordance with Section VIII, Division 1 of the ASME Code.
14920-M |  | Nordco Rail Services LLC | 173.302a(b), 172.203(a), 172.301(c), 180.205 | To modify the special permit to authorize requalification of DOT specification 3A and 3AA cylinders with 24 inch outside diameters and to indicate that Ultrasonic Examination (UE) is not required on the sidewall-to-base transitions (SBT) region of a cylinder if the cylinder design does not permit.
16081-M |  | Cabela's Incorporated | 178.602 | To modify the special permit to authorize additional Division 1.4 materials, and no longer require a copy of the special permit must be furnished to the carrier.
20220-N |  | Agility Fuel Systems, Inc | 173.220(a) | To authorize the transportation in commerce of compressed natural gas fuel systems that are not part of an internal combustion engine.
20222-N |  | Trinity Containers, LLC | 178.337-3(g)(3) | To authorize the transportation in commerce of certain DOT Specification MC-331 cargo tank motor vehicles with a water capacity greater than 3,500 gallons, manufactured to the DOT MC-331 specification, constructed of non-quenched and tempered (“NQT”) steel except that the cargo tanks have baffle support clips welded directly to the inside of the cargo tank wall without the use of pads.
20226-N |  | Awesome Flight LLC | 173.27(b)(3) | To authorize the transportation of lithium ion batteries in excess of the authorized quantity limitations via passenger and cargo aircraft.
20228-N |  | Worthington Cylinder Corporation | 173.302(f)(3), 173.302(f)(4), 173.302(f)(5), 173.302a(a)(1), 173.304a(a)(1), 175.501(e)(3) | To authorize the manufacture, marking, sale, and use of non-DOT specification fully wrapped carbon fiber reinforced steel lined cylinders for the transportation in commerce.
20235-N |  | Union Pacific Railroad Company, Inc | 174.83(c), 174.83(d), 174.83(e) | To authorize the transportation in commerce of flatcars carrying bulk packagings containing certain Division 4.3 materials without restricting its ability to couple with another railcar while moving under its own momentum.
20237-N |  | DSM Nutritional Products, Inc | 172.500(a), 107.601(a) | To authorize the transportation in commerce of bulk packagings containing Division 4.2 materials without displaying placards.
20239-N |  | Paklook Air, Inc | 172.101(j)(1), 172.301(c) | To authorize the transportation in commerce of certain Class 1 explosive materials which are forbidden for transportation by air, to be transported by cargo aircraft within and around the State of Alaska when other means of transportation are impracticable or not available.
20251-N |  | Salco Products, Inc | 172.203(a), 178.345-1, 180.413 | To authorize the manufacture, mark, sale and use of manway assemblies constructed from stabilized polyethylene for installation on certain DOT specification cargo tank motor vehicles in transporting certain hazardous materials.
20252-N |  | Luxfer Inc. | 173.302(a), 180.205 | To authorize the manufacture, marking, sale and use of a non-DOT specification fully wrapped carbon fiber composite cylinder with a non-load sharing polymer liner for the transport of certain hazardous materials.
20258-N |  | Winco Fireworks | 173.62(c), 172.301(c) | To authorize the one-way transportation in commerce of Division 1.4G consumer fireworks in non-DOT specification fiberboard non-bulk out packagings under the terms and conditions specified when transported by private, contract or common carrier.
20261-N |  | Saft S.A | 173.185(a) | To authorize the transportation in commerce of proto-type and low production lithium ion cells and batteries and lithium metal cells and batteries by cargo-only aircraft.

[FR Doc. 2016-27727 Filed 11-23-16; 8:45 am]

BILLING CODE 4909-60-M